DEPARTMENT OF COMMERCE

International Trade Administration

[A-580-908]

Passenger Vehicle and Light Truck Tires From the Republic of Korea: Preliminary Results of Antidumping Duty Administrative Review; 2021-2022

AGENCY: Enforcement and Compliance, International Trade Administration, Department of Commerce.

SUMMARY: The U.S. Department of Commerce (Commerce) preliminary determines that Hankook Tire Mfg Co. Ltd. (Hankook) and Nexen Tire Corporation (Nexen) made sales of passenger vehicle and light truck tires (passenger tires) from the Republic of Korea (Korea) at prices below normal value (NV) during the period of review (POR), January 6, 2021, through June 30, 2022. We invite interested parties to comment on these preliminary results.

DATES: Applicable August 3, 2023.

FOR FURTHER INFORMATION CONTACT: Charles DeFilippo and Jun Jack Zhao, AD/CVD Operations, Office VII, Enforcement and Compliance, International Trade Administration, U.S. Department of Commerce, 1401 Constitution Avenue NW, Washington, DC 20230; telephone: (202) 482-3797 and (202) 482-1396, respectively.

SUPPLEMENTARY INFORMATION:

Background

On July 19, 2021, Commerce published in the Federal Register the antidumping duty order on passenger tires from Korea.¹ On July 1, 2022, Commerce published in the Federal Register a notice of opportunity to request an administrative review of the Order.² On September 6, 2022, based on timely requests for review and in accordance with 19 CFR 351.221(c)(1)(i), Commerce initiated an administrative review of the Order.³ Pursuant to section 751(a)(3)(A) of the Tariff Act of 1930, as amended (the Act), Commerce extended the deadline for the preliminary results until July 28, 2023.⁴

¹ See Passenger Vehicle and Light Truck Tires From the Republic of Korea, Taiwan, and Thailand: Antidumping Duty Orders and Amended Final Affirmative Antidumping Duty Determination for Thailand, 86 FR 38011 (July 19, 2021) (Order).

² See Antidumping or Countervailing Duty Order, Finding, or Suspended Investigation; Opportunity To Request Administrative Review and Join Annual Inquiry Service List, 87 FR 39461 (July 1, 2022).

³ See Initiation of Antidumping and Countervailing Duty Administrative Review, 87 FR 54463 (September 6, 2022).

⁴ See Memoranda, “Extension of Deadline for Preliminary Results of Antidumping Duty Administrative Review,” dated March 29, 2023; and “Second Extension of Deadline for Preliminary Results of Antidumping Duty Administrative Review,” dated June 5, 2023.

For a complete description of the events that followed the initiation of this review, see the Preliminary Decision Memorandum.⁵ A list of the topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results of Administrative Review of the Antidumping Duty Order on Passenger Vehicle and Light Truck Tires from the Republic of Korea; 2021-2022” dated concurrently with, and hereby adopted by, this notice (Preliminary Decision Memorandum).

Scope of the Order

The products covered by the Order are passenger tires from Korea. The products covered by this Order are currently classified under the following Harmonized Tariff Schedule of the United States (HTSUS) subheadings: 4011.10.1010, 4011.10.1020, 4011.10.1030, 4011.10.1040, 4011.10.1050, 4011.10.1060, 4011.10.1070, 4011.10.5000, 4011.20.1005, and 4011.20.5010. Tires meeting the scope description may also enter under the following HTSUS subheadings: 4011.90.1010, 4011.90.1050, 4011.90.2010, 4011.90.2050, 4011.90.8010, 4011.90.8050, 8708.70.4530, 8708.70.4546, 8708.70.4548, 8708.70.4560, 8708.70.6030, 8708.70.6045, and 8708.70.6060. While HTSUS subheadings are provided for convenience and for customs purposes, the written description of the subject merchandise is dispositive. For a full description of the scope of the Order, see the Preliminary Decision Memorandum.

Methodology

Commerce is conducting this review in accordance with section 751(a) of the Act. Export price and constructed export price are calculated in accordance with section 772 of the Act. NV is calculated in accordance with section 773 of the Act. For a full description of the methodology underlying these preliminary results, see the Preliminary Decision Memorandum.

Rate for Non-Examined Companies

The Act and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in a less-than-fair-value investigation, for guidance when determining the weighted-average dumping margin for companies which were not selected for individual examination in an administrative review.

Section 735(c)(5)(A) of the Act provides that Commerce will base the all-others rate on the weighted average of the estimated weighted-average dumping margins calculated for the individually examined respondents, excluding rates that are zero, de minimis, or based entirely on facts available. Where the estimated weighted-average dumping margin for each of the individually examined companies is zero, de minimis, or based entirely on facts available, section 735(c)(5)(B) of the Act provides that Commerce may use “any reasonable method to establish the estimated all-others rate for exporters and producers not individually investigated, including averaging the estimated weighted-average dumping margins determined for the exporters and producers individually investigated.”

In this review, the preliminary weighted-average dumping margins for Hankook and Nexen are not zero, de minimis, or based entirely on facts otherwise available. Therefore, we have preliminarily assigned a weighted-average dumping margin to the non-examined company, Kumho Tire Co., Inc., that is equal to the weighted average of the weighted-average dumping margins calculated for Hankook and Nexen, consistent with the guidance in section 735(c)(5)(A) of the Act.⁶

⁶ See Memorandum, “Preliminary Results of the Antidumping Duty Administrative Review of Passenger Vehicles and Light Truck Tires from the Republic of Korea: Rate for Non-Examined Companies,” dated concurrently with this notice.

Preliminary Results of Review

As a result of this review, Commerce preliminarily determines that the following weighted-average dumping margins exists for the period January 6, 2021, through June 30, 2022:

Producer/exporter | Weighted- average dumping margin (percent)
Hankook Tire Mfg Co. Ltd | 19.45
Nexen Tire Corporation | 4.23
Kumho Tire Co., Inc | 12.61

Disclosure and Public Comment

We intend to disclose the calculations performed for these preliminary results to interested parties under administrative protective order within five days after the date of public announcement of the preliminary results, or within five days after the publication of the preliminary results in the Federal Register.⁷

⁷ See 19 CFR 351.224(b).

Pursuant to 19 CFR 351.309(c), interested parties may submit case briefs no later than 30 days after the date of publication of this notice. Rebuttal briefs, limited to issues raised in the case briefs, may be filed not later than seven days after the date for filing case briefs.⁸ Interested parties who submit case briefs or rebuttal briefs in this proceeding are encouraged to submit with each argument: (1) a statement of the issue; (2) a brief summary of the argument; and (3) a table of authorities.⁹ Executive summaries should be limited to five pages total, including footnotes.

⁸ See 19 CFR 351.309(d)(1) and (2); see also Temporary Rule Modifying AD/CVD Service Requirements Due to COVID-19; Extension of Effective Period, 85 FR 41363 (July 10, 2020) (Temporary Rule).

⁹ See 19 CFR 351.309(c)(2) and (d)(2).

Pursuant to 19 CFR 351.310(c), interested parties who wish to request a hearing must submit a written request to the Assistant Secretary for Enforcement and Compliance within 30 days after the date of publication of this notice. Requests should contain: (1) the party's name, address, and telephone number; (2) the number of participants; (3) whether any participant is a foreign national; and (4) a list of issues to be discussed. Issues raised in the hearing will be limited to those raised in the respective case and rebuttal briefs. If a request for a hearing is made, Commerce intends to hold the hearing at a date and time to be determined.

All briefs and hearing requests must be filed electronically using ACCESS ¹⁰ and must be served on interested parties.¹¹ An electronically filed document must be received successfully in its entirety by ACCESS by 5 p.m. Eastern Time. Note that Commerce has temporarily modified certain of its requirements for serving documents containing business proprietary information, until further notice.¹²

¹⁰ See 19 CFR 351.303.

¹¹ See 19 CFR 351.303(f).

¹² See Temporary Rule.

Assessment Rates

Pursuant to section 751(a)(2)(A) of the Act and 19 CFR 351.212(b)(1), Commerce intends to determine, and U.S. Customs and Border Protection (CBP) shall assess, antidumping duties on all appropriate entries of subject merchandise covered by this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

For an individually examined respondent whose weighted-average dumping margin is not zero or de minimis (i.e., less than 0.50 percent), Commerce intends to calculate importer-specific antidumping duty assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.¹³ To determine whether an importer-specific, per-unit assessment rate is de minimis, in accordance with 19 CFR 351.106(c)(2), we also will calculate an importer-specific ad valorem ratio based on estimated entered values. Where either a respondent's weighted average dumping margin is zero or de minimis, or an importer-specific assessment rate is zero or de minimis, we intend to instruct CBP to liquidate appropriate entries without regard to antidumping duties.¹⁴

¹³ See 19 CFR 351.212(b)(1).

¹⁴ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by each individually examined respondent for which it did not know its merchandise was destined for the United States, we intend to instruct CBP to liquidate such entries at the all-others rate if there is no rate for the intermediate company(ies) involved in the transaction.¹⁵

¹⁵ See Antidumping and Countervailing Duty Proceedings: Assessment of Antidumping Duties, 68 FR 23954 (May 6, 2003).

For a company which was not selected for individual examination, we intend to assign an antidumping duty assessment rate equal to the weighted-average dumping margin determined for the non-examined company in the final results of review. The final results of this review shall be the basis for the assessment of antidumping duties on entries of merchandise covered by this review, and for future cash deposits of estimated antidumping duties, where applicable.¹⁶

¹⁶ See section 751(a)(2)(C) of the Act.

Cash Deposit Requirements

The following cash deposit requirements will be effective for all shipments of subject merchandise entered, or withdrawn from warehouse, for consumption on or after the date of publication of the final results of this administrative review in the Federal Register, as provided for by section 751(a)(2)(C) of the Act: (1) the cash deposit rate for the exporters listed above will be the rate established in the final results of this review (except, if the rate is zero or de minimis, then no cash deposit will be required); (2) for previously reviewed or investigated companies not listed above, the cash deposit rate will continue to be the company-specific rate published for the most recently completed segment of this proceeding in which the company participated; (3) if the exporter is not a firm covered in this review, a prior review, or the less-than-fair value investigation, but the producer is, the cash deposit rate will be the rate established for the most recently completed segment of this proceeding for the producer of the subject merchandise; and (4) the cash deposit rate for all other producers or exporters will continue to be 21.74 percent, the all-others rate established in the less-than-fair value investigation.¹⁷

¹⁷ See Order.

These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act and 19 CFR 351.221(b)(4).

Dated: July 28, 2023.
Lisa W. Wang,
Assistant Secretary for Enforcement and Compliance.

Appendix

List of Topics Discussed in the Preliminary Decision Memorandum

I. Summary

II. Background

III. Scope of the Order

IV. Discussion of the Methodology

V. Currency Conversion

VI. Recommendation

[FR Doc. 2023-16595 Filed 8-2-23; 8:45 am]

BILLING CODE 3510-DS-P